DEPARTMENT OF TRANSPORTATION

Pipeline and Hazardous Materials Safety Administration

Office of Hazardous Materials Safety Actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR part 107, Subpart B), notice is hereby given of the actions on special permits applications in (May to May 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on June 12, 2012.
Donald Burger,
Chief, Special Permits and Approvals Branch.

S.P No. | Applicant | Regulation(s) | Nature of special permit thereof
MODIFICATION SPECIAL PERMIT GRANTED
10898-M | Hydac Corporation Bethlehem, PA | 49 CFR 173.302 | To modify the special permit to authorize additional accumulators both ASME and PED.
12706-M | RAGASCO AS Raudoss, NO | 49 CFR 173.34; 173.201; 173.301; 173.304 | To modify the special permit to authorize an alternative test and inspection procedure.
7945-M | Pacific Scientific Duarte, CA | 49 CFR 175.3 173.304(a)(1) | Too modify the special permit to authorize additional 2.2 hazardous materials in non-DOT specification cylinders.
11606-M | Safety-Kleen Systems, Inc. Plano, TX | 49 CFR 173.28(b)(2) | To modify the special permit to authorize double stacking of pallets used for shipping and to authorize approved third party transporters to transport the material authorized in the permit.
14467-M | Brenner Tank, LLC Fond Du Lac, WI | 49 CFR 178.345-2 | To modify the special permit to authorize construction of series 400 cargo tanks using certain materials not authorize in 178.345(2) as materials of construction and to add additional UNS Designation tanks.
12135-M | Daicel Safety Systems, Inc. Hyogo Prefecture 671-1681 | 49 CFR 173.302(h); 173.302; 173.306(d)(3) | To modify the special permit to authorize a new design of non-DOT specification cylinders (pressure vessels) for use as components of automobile vehicle safety systems.
15531-M | National Aeronautics and Space Administration (NASA) Washington, DC | 49 CFR Section 173.302(a) | To modify the special permit originally issued on an emergency basis to authorize on-going use.
15442-M | Linde Gas North America LLC Murray Hill, NJ | 49 CFR 180.212(a) and 180.212(b)(2) | To modify the special permit originally issued on an emergency basis to authorize on-going use.
NEW SPECIAL PERMIT GRANTED
15393-N | Savannah Acid Plant LLC Savannah, GA | 49 CFR 173.31(d)(1)(vi) | To authorize the transportation in commerce of sulfuric acid in tanks cars that have not had both sides of the rupture disc inspected prior to shipment. (mode 2)
EMERGENCY SPECIAL PERMIT GRANTED
15634-N | SodaStream USA Inc., Cherry Hill, NJ | 49 CFR 171.2(k) | To authorize the transportation in commerce of certain used DOT 3AL cylinders that contain CO2, but not necessarily in an amount qualifying as hazardous material. (mode 1)
DENIED
11516-M | Request by The Testor Corporation Rockford, IL May 17, 2012. To modify the special permit to authorize an additional Division 2.1 material.

[FR Doc. 2012-14692 Filed 6-18-12; 8:45 am]

BILLING CODE 4909-60-M